DEPARTMENT OF TRANSPORTATION

Federal Aviation Administration

14 CFR Part 39

[Docket No. FAA-2006-25851; Directorate Identifier 2006-NM-133-AD; Amendment 39-14872; AD 2007-01-01]

RIN 2120-AA64

Airworthiness Directives; BAE Systems (Operations) Limited Model BAe 146 and Avro 146-RJ Airplanes

AGENCY: Federal Aviation Administration (FAA), Department of Transportation (DOT).

ACTION: Final rule.

SUMMARY: The FAA is adopting a new airworthiness directive (AD) for all BAE Systems (Operations) Limited Model BAe 146 and Avro 146-RJ airplanes. This AD requires determining the part number of the lift spoiler actuators/jacks (referred to after this as “lift spoiler jacks”). For affected lift spoiler jacks, this AD requires determining the date of manufacture of the lift spoiler jacks, repetitively inspecting the eye-end assembly of the lift spoiler jacks to detect discrepancies of the assembly or associated parts, and performing corrective actions if necessary. This AD results from a report that a lift spoiler deployed in flight due to corrosion at the thread where the eye-end assembly was screwed into the piston of the lift spoiler jack. We are issuing this AD to prevent detachment of the eye-end assembly of a lift spoiler jack, which could result in uncommanded deployment of a lift spoiler in flight, and consequent reduced controllability of the airplane.

DATES: This AD becomes effective February 13, 2007.

The Director of the Federal Register approved the incorporation by reference of a certain publication listed in the AD as of February 13, 2007.

ADDRESSES: You may examine the AD docket on the Internet at http://dms.dot.gov or in person at the Docket Management Facility, U.S. Department of Transportation, 400 Seventh Street, SW., Nassif Building, Room PL-401, Washington, DC.

Contact British Aerospace Regional Aircraft American Support, 13850 Mclearen Road, Herndon, Virginia 20171, for service information identified in this AD.

FOR FURTHER INFORMATION CONTACT: Todd Thompson, Aerospace Engineer, International Branch, ANM-116, Transport Airplane Directorate, FAA, 1601 Lind Avenue, SW., Renton, Washington 98057-3356; telephone (425) 227-1175; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to all BAE Systems (Operations) Limited Model BAe 146 and Avro 146-RJ airplanes. That NPRM was published in the Federal Register on September 20, 2006 (71 FR 54939). That NPRM proposed to require determining the part number of the lift spoiler actuators/jacks (referred to after this as “lift spoiler jacks”). For affected lift spoiler jacks, that NPRM proposed to require determining the date of manufacture of the lift spoiler jacks, repetitively inspecting the eye-end assembly of the lift spoiler jacks to detect discrepancies of the assembly or associated parts, and performing corrective actions if necessary.

Comments

We provided the public the opportunity to participate in the development of this AD. We have considered the single comment received.

Request To Publish Service Information

The Modification and Replacement Parts Association (MARPA) states that, typically, ADs are based on service information originating with the type certificate holder or its suppliers. MARPA adds that manufacturer service documents are privately authored instruments generally having copyright protection against duplication and distribution. MARPA notes that when a service document is incorporated by reference into a public document, such as an AD, it loses its private, protected status and becomes a public document. MARPA adds that if a service document is used as a mandatory element of compliance, it should not simply be referenced, but should be incorporated into the regulatory document; by definition, public laws must be public, which means they cannot rely upon private writings. MARPA adds that incorporated by reference service documents should be made available to the public by publication in the Docket Management System (DMS), keyed to the action that incorporates them. MARPA notes that the stated purpose of the incorporation by reference method is brevity, to keep from expanding the Federal Register needlessly by publishing documents already in the hands of the affected individuals; traditionally, “affected individuals” means aircraft owners and operators, who are generally provided service information by the manufacturer. MARPA adds that a new class of affected individuals has emerged, since the majority of aircraft maintenance is now performed by specialty shops instead of aircraft owners and operators. MARPA notes that this new class includes maintenance and repair organizations, component servicing and repair shops, parts purveyors and distributors, and organizations manufacturing or servicing alternatively certified parts under section 21.303 (“Replacement and modification parts”) of the Federal Aviation Regulations (14 CFR 21.303). Therefore, MARPA asks that the service documents deemed essential to the accomplishment of the NPRM be incorporated by reference into the regulatory instrument and published in the DMS.

We understand MARPA's comment concerning incorporation by reference. The Office of the Federal Register (OFR) requires that documents that are necessary to accomplish the requirements of the AD be incorporated by reference during the final rule phase of rulemaking. This final rule incorporates by reference the document necessary for the accomplishment of the requirements mandated by this AD. Further, we point out that while documents that are incorporated by reference do become public information, they do not lose their copyright protection. For that reason, we advise the public to contact the manufacturer to obtain copies of the referenced service information.

In regard to the commenter's request to post service bulletins on the Department of Transportation's DMS, we are currently in the process of reviewing issues surrounding the posting of service bulletins on the DMS as part of an AD docket. Once we have thoroughly examined all aspects of this issue and have made a final determination, we will consider whether our current practice needs to be revised. No change to the final rule is necessary in response to this comment.

Conclusion

We have carefully reviewed the available data, including the comment received, and determined that air safety and the public interest require adopting the AD as proposed.

Costs of Compliance

This AD affects about 53 airplanes of U.S. registry. The required inspections take about 4 work hours per airplane, per inspection cycle, at an average labor rate of $80 per work hour. Based on these figures, the estimated cost of the AD for U.S. operators is $16,960, or $320 per airplane, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-01-01 BAE Systems (Operations) Limited (Formerly British Aerospace Regional Aircraft): Amendment 39-14872. Docket No. FAA-2006-25851; Directorate Identifier 2006-NM-133-AD.

Effective Date

(a) This AD becomes effective February 13, 2007.

Affected ADs

(b) None.

Applicability

(c) This AD applies to all BAE Systems (Operations) Limited Model BAe 146-100A, -200A, and -300A series airplanes; and Model Avro 146-RJ70A, 146-RJ85A, and 146-RJ100A airplanes; certificated in any category.

Unsafe Condition

(d) This AD results from a report that a lift spoiler deployed in flight due to corrosion at the thread where the eye-end assembly was screwed into the piston of the lift spoiler actuator/jack (referred to after this as the “lift spoiler jack”). We are issuing this AD to prevent detachment of the eye-end assembly of a lift spoiler jack, which could result in uncommanded deployment of a lift spoiler in flight, and consequent reduced controllability of the airplane.

Compliance

(e) You are responsible for having the actions required by this AD performed within the compliance times specified, unless the actions have already been done.

Service Bulletin Reference

(f) The term “service bulletin,” as used in this AD, means the Accomplishment Instructions of BAE Systems (Operations) Limited Inspection Service Bulletin SB27-176, Revision 2, dated October 5, 2004. Although the service bulletin specifies to submit information to the manufacturer, this AD does not include that requirement. Inspections and corrective actions accomplished before the effective date of this AD in accordance with BAE Systems (Operations) Limited Inspection Service Bulletin SB27-176, dated October 1, 2003; or Revision 1, dated January 13, 2004; are acceptable for compliance with the corresponding actions required by this AD.

Determination of Part Number (P/N)

(g) Within 30 days after the effective date of this AD: Determine the P/N of all six lift spoiler jacks. A review of airplane maintenance records is an acceptable method of determining the P/N if the P/N can be conclusively determined from that review.

(1) If no lift spoiler jack having P/N P308-45-0002 or P308-45-0102 is installed: No further action is required by this paragraph.

(2) For any lift spoiler jack having P/N P308-45-0002 or P308-45-0102: Before further flight, inspect the lift spoiler jack to determine its serial number (S/N) and date of manufacture. A review of airplane maintenance records is acceptable in lieu of this inspection if the S/N and date of manufacture can be conclusively determined from that review.

Inspection of Lift Spoiler Jack

(h) For any lift spoiler jack having P/N P308-45-0002 or P308-45-0102: At the applicable compliance time specified in paragraph (h)(1) or (h)(2) of this AD, perform a detailed inspection for discrepancies of the eye-end assembly of the lift spoiler jack, associated hardware, and the thread of the piston where the eye-end assembly attaches, in accordance with the service bulletin. Discrepancies include but are not limited to evidence of corrosion or damaged or fretted threads.

(1) For lift spoiler jacks identified in paragraphs (h)(1)(i) and (h)(1)(ii) of this AD: Within 30 days after the effective date of this AD.

(i) Any lift spoiler jack having a S/N prefixed with “DAWX” or “CSW” (regardless of the date of manufacture).

(ii) Any lift spoiler jack having P/N P308-45-0002 or P308-45-0102, with a date of manufacture on or before December 31, 1999.

(2) For lift spoiler jacks with a date of manufacture on or after January 1, 2000, except those with S/Ns prefixed with “DAWX” or “CSW”: Within 5 months after the effective date of this AD.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Repetitive Inspections/Corrective Action

(i) Repeat the inspection required by paragraph (h) of this AD and do corrective actions based on the inspection findings, in accordance with paragraph (i)(1), (i)(2), or (i)(3) of this AD, as applicable.

(1) If no discrepancy of the eye-end assembly of the lift spoiler jack is found: Repeat the inspection required by paragraph (h) of this AD within 48 months, and, based on the findings during that repeat inspection, repeat the inspection and do corrective actions, as applicable, in accordance with paragraph (i) of this AD.

(2) If light corrosion, as defined in the service bulletin, but no other discrepancy, is found: Repeat the inspection required by paragraph (h) of this AD within 24 months, and, based on the findings during that repeat inspection, repeat the inspection and do corrective actions, as applicable, in accordance with paragraph (i) of this AD.

(3) If severe corrosion, as defined in the service bulletin, or any damaged or fretted thread, is found: Before further flight, replace the eye-end assembly of the lift spoiler jack, associated hardware, and piston, as applicable, with new or serviceable parts, as applicable, in accordance with the service bulletin. Then, repeat the inspection required by paragraph (h) of this AD within 48 months, and, based on the findings during that repeat inspection, repeat the inspection and do corrective actions, as applicable, in accordance with paragraph (i) of this AD. Where the service bulletin specifies to return certain damaged parts to the parts manufacturer, this AD does not require that action.

Parts Installation

(j) As of the effective date of this AD, no person may install a lift spoiler jack having P/N P308-45-0002 or P308-45-0102 unless it has been inspected as required by this AD and found to be free of severe corrosion or other discrepancy.

Alternative Methods of Compliance (AMOCs)

(k)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(l) European Aviation Safety Agency airworthiness directive 2006-0139, dated May 23, 2006, also addresses the subject of this AD.

Material Incorporated by Reference

(m) You must use BAE Systems (Operations) Limited Inspection Service Bulletin SB27-176, Revision 2, dated October 5, 2004, to perform the actions that are required by this AD, unless the AD specifies otherwise. The Director of the Federal Register approved the incorporation by reference of this document in accordance with 5 U.S.C. 552(a) and 1 CFR part 51. Contact British Aerospace Regional Aircraft American Support, 13850 Mclearen Road, Herndon, Virginia 20171, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on December 21, 2006.
Ali Bahrami,
Manager, Transport Airplane Directorate, Aircraft Certification Service.

[FR Doc. E6-22537 Filed 1-8-07; 8:45 am]

BILLING CODE 4910-13-P